NATIONAL SCIENCE FOUNDATION

Advisory Panel for Social and Political Science; Notice of Meetings

In accordance with the Federal Advisory Committee Act (Pub. L. 92-463, and amended), the National Science Foundation announces the following meeting:

Name: Advisory Panel for Social and Political Science (#1761).

Date/Time: April 26-27, 2001; 9 a.m. to ­5 p.m.

Place: Department of Political Science, National Science Foundation, Stafford Place, 4201 Wilson Boulevard, Room 970; Arlington, VA.

Contact Person: Dr. Frank Scioli and Dr. James Granato, Program Directors for Political Science, National Science Foundation. Telephone: (703) 292-8762.

Agenda: To review and evaluate the political science proposals as part of the selection process for awards.

Date/Time: May 3-4, 2001; 9 a.m. to ­5 p.m.

Place: National Science Foundation, Stafford Place, 4201 Wilson Boulevard, Room 365, Arlington, VA.

Contact Person: Dr. Paul Wahlbeck, Program Director, Law and Social Science, National Science Foundation. Telephone (703) 292-8762.

Agenda: To review and evaluate the Law and Social Science Proposals as a part of the selection process for awards.

Date/Time: April 26-27, 2001; 9 a.m. to ­5 p.m.

Place: National Science Foundation, Stafford Place, 4201 Wilson Boulevard, Room 920, Arlington, VA.

Contact Person: Dr. Patricia White and Dr. Fred Pampel, Department of Sociology, National Science Foundation, Telephone (703) 292-8762.

Agenda: To review and evaluate the Sociology proposals as a part of the selection process for awards.

Type of Meetings: Closed.

Purpose of Meeting: To provide advice and recommendations concerning support for research proposals submitted to the NSF for financial support.

Reason for Closing: The proposals being reviewed include information of a proprietary or confidential nature, including technical information; financial data, such as salaries; and personal information concerning individuals associated with the proposals. These matters are exempt under 5 U.S.C. 552b(c)(4) and (6) of the Government in the Sunshine Act.

Dated: March 6, 2001.
Susanne Bolton,
Committee Management Officer.

[FR Doc. 01-5875 Filed 3-8-01; 8:45 am]

BILLING CODE 7555-01-M